DEPARTMENT OF HOMELAND SECURITY

Federal Emergency Management Agency

[Docket ID FEMA-2010-0032]

Federal Radiological Preparedness Coordinating Committee

AGENCY: Federal Emergency Management Agency, DHS.

ACTION: Notice of public meeting.

SUMMARY: The Federal Radiological Preparedness Coordinating Committee (FRPCC) is holding a public meeting on July 11, 2011 in Arlington, VA.

DATES: The meeting will take place on July 11, 2011. The session open to the public will be from 9 a.m. EST to 10 a.m. EST. Send written statements and requests to make oral statements to the contact person listed under the FOR FURTHER INFORMATION CONTACT caption by close of business July 1, 2011.

ADDRESSES: The meeting will be held at 1800 South Bell Street, Room 803A and 803B, Arlington, VA 22202.

FOR FURTHER INFORMATION CONTACT: Timothy Greten, FRPCC Executive Secretary, DHS/FEMA, 1800 South Bell Street—CC847, Mail Stop 3025, Arlington, VA 20598-3025; telephone: (202) 646-3907; fax: (703) 305-0837; or e-mail: timothy.greten@dhs.gov.

SUPPLEMENTARY INFORMATION: The role and functions of the Federal Radiological Preparedness Coordinating Committee (FRPCC) are described in 44 CFR parts 351.10(a) and 351.11(a). The FRPCC is holding a public meeting on July 11, 2011 from 9 a.m. EST to 10 a.m. EST, at 1800 South Bell Street, Room 803A and 803B, Arlington, VA 22202. Please note that the meeting may close early. This meeting is open to the public. Public meeting participants must pre-register to be admitted to the meeting. To pre-register, please provide your name and telephone number by close of business on July 1, 2011, to the individual listed under the FOR FURTHER INFORMATION CONTACT caption.

The tentative agenda for the FRPCC meeting includes: (1) Introductions, (2) Advisory Team Concept of Operations update, (3) Agency report-out of the Fukushima-Daiichi Nuclear Power Plant lessons-learned, (4) National Level Exercise 2011 After-Action Report, (5) Senior Official Exercise/Principal Level Exercise SOE/PLE 3-10 update. The FRPCC Chair shall conduct the meeting in a way that will facilitate the orderly conduct of business. Reasonable provisions will be made, if time permits, for oral statements from the public of not more than 5 minutes in length. Any member of the public who wishes to make an oral statement at the meeting should send a written request for time by close of business on July 1, 2011, to the individual listed under the FOR FURTHER INFORMATION CONTACT caption. Any member of the public who wishes to file a written statement with the FRPCC should provide the statement by close of business on July 1, 2011, to the individual listed under the FOR FURTHER INFORMATION CONTACT caption.

Information on Services for Individuals With Disabilities

For information on facilities or services for individuals with disabilities or to request special assistance at the meeting, please write or call the individual listed under the FOR FURTHER INFORMATION CONTACT caption as soon as possible.

Authority: 44 CFR 351.10(a) and 351.11(a).

Timothy W. Manning,
Deputy Administrator, Protection and National Preparedness Department of Homeland Security, Federal Emergency Management Agency.

[FR Doc. 2011-15186 Filed 6-17-11; 8:45 am]

BILLING CODE 9110-21-P